FEDERAL MARITIME COMMISSION

National Shipper Advisory Committee March 2022 Meeting

AGENCY: Federal Maritime Commission.

ACTION: Notice of Federal Advisory Committee meeting

SUMMARY: Notice is hereby given of a meeting of the National Shipper Advisory Commission (NSAC), pursuant to the Federal Advisory Committee Act.

DATES: The Committee will meet by video conference on March 9, 2022, from 1 p.m. until 3 p.m. Eastern Time. Please note that this meeting may adjourn early if the Committee has completed its business.

ADDRESSES: The meeting will be held via video conference. The link will be provided by email to registrants in advance. Requests to register should be submitted to nsac@fmc.gov and contain “REGISTER FOR NSAC MEETING” in the subject line. The deadline for members of the public to register to attend the meeting is by 5:00 p.m. Eastern Time on Friday, March 4. Members of the public are encouraged to submit registration requests via email in advance of the deadline. The number of lines may be limited and will be available on a first-come, first-served basis. If you have accessibility concerns and require assistance, contact secretary@fmc.gov.

FOR FURTHER INFORMATION CONTACT: Mr. Dylan Richmond, Designated Federal Officer of the National Shipper Advisory Committee, phone: (202) 523-5810; email: drichmond@fmc.gov.

SUPPLEMENTARY INFORMATION: Background: The National Shipper Advisory Committee is a federal advisory committee. It operates under the provisions of the Federal Advisory Committee Act, 5 U.S.C. App., and 46 U.S.C. chapter 425. The Committee was established on January 1, 2021, when the National Defense Authorization Act for Fiscal Year 2021 became law. Public Law 116-283, section 8604, 134 Stat. 3388 (2021). The Committee will provide information, insight, and expertise pertaining to conditions in the ocean freight delivery system to the Commission. Specifically, the Committee will advise the Federal Maritime Commission on policies relating to the competitiveness, reliability, integrity, and fairness of the international ocean freight delivery system. 46 U.S.C. 42502(b).

The purpose of the meeting is for the Committee to hear from its subcommittees that were established at its December 2021 meeting. One subcommittee focuses on data sharing and visibility and the other on fees and surcharges.

Written Comments: Members of the public may submit written comments to NSAC at any time. Comments would be most useful to the Committee if they address the objectives outlined in their charter or the above-mentioned topics. Comments should be addressed to NSAC, c/o Dylan Richmond, Federal Maritime Commission, 800 North Capitol St. NW, Washington, DC 20573 or nsac@fmc.gov.

A copy of all meeting documentation will be available at www.fmc.gov following the meeting.

By the Commission.
William Cody,
Secretary.

[FR Doc. 2022-03673 Filed 2-18-22; 8:45 am]

BILLING CODE 6730-02-P